DEPARTMENT OF COMMERCE

International Trade Administration

[A-570-863]

Notice of Extension of the Final Results of Antidumping Duty New Shipper Review: Honey From the People's Republic of China

AGENCY: Import Administration, International Trade Administration, Department of Commerce.

EFFECTIVE DATE: September 25, 2007.

FOR FURTHER INFORMATION CONTACT: Erin C. Begnal or Michael Quigley; AD/CVD Operations, Office 9, Import Administration, International Trade Administration, U.S. Department of Commerce, 14th Street and Constitution Avenue, NW., Washington, DC 20230; telephone: (202) 482-1442 and (202) 482-4047, respectively.

Background

On July 3, 2007, the Department of Commerce (“Department”) published the preliminary results of the new shipper review of the antidumping duty order on honey from the People's Republic of China for the period December 1, 2005, through June 30, 2006. See Honey from the People's Republic of China: Preliminary Results of Antidumping Duty New Shipper Review, 72 FR 36422 (July 3, 2007) (“Preliminary Results”). The final results of this new shipper review are currently due by September 24, 2007.

Extension of Time Limits for Final Results

Section 751(a)(2)(B)(iv) of the Tariff Act of 1930, as amended (“the Act”), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated (19 CFR 351.214 (i)(2)).

The Department has determined that the review is extraordinarily complicated, as the Department must consider numerous arguments presented in the respondent's August 2, 2007, case brief and the petitioners' August 8, 2007, rebuttal brief, including issues related to factors of production, completeness, and the application of adverse facts available. Based on the timing of the case, the final results of this new shipper review cannot be completed within the statutory time limit of 90 days. Accordingly, the Department is extending the time limit for the completion of the final results by 30 days from the original September 24, 2007, deadline, to October 24, 2007, in accordance with section 751(a)(2)(B)(iv) of the Act and 19 CFR 351.214(i)(2). This notice is published pursuant to sections 751(a)(2)(B)(iv) and 777(i)(1) of the Act.

Dated: September 18, 2007.
Stephen J. Claeys,
Deputy Assistant Secretary for Import Administration.

[FR Doc. E7-18875 Filed 9-24-07; 8:45 am]

BILLING CODE 3510-DS-P